DEPARTMENT OF ENERGY

Federal Energy Regulatory Commission

[Project No. 2997-031]

South Sutter Water District; Notice of Intent To Prepare an Environmental Assessment

On July 1, 2019, South Sutter Water District (SSWD) filed an application for a major, new license for the 6.8-megawatt Camp Far West Hydroelectric Project No. 2997 (Camp Far West Project), which was amended on December 28, 2023. The Camp Far West Project is located on the Bear River in Yuba, Nevada, and Placer Counties, California. No Federal or Tribal lands occur within or adjacent to the project boundary or along the Bear River downstream of the project.

In accordance with the Commission's regulations, on September 5, 2024, Commission staff issued a notice that the project was ready for environmental analysis (REA Notice). Based on the information in the record, including comments filed in response to the REA Notice, staff does not anticipate that licensing the project would constitute a major Federal action significantly affecting the quality of the human environment. Therefore, staff intends to prepare a draft and final Environmental Assessment (EA) on the application to relicense the Camp Far West Project.¹

¹ In accordance with the Council on Environmental Quality's regulations, the unique identification number for documents relating to this environmental review is EAXX-019-20-000-1732280168. 40 CFR 1501.5(c)(4) (2024).

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The application will be processed according to the following schedule. Revisions to the schedule may be made as appropriate.²

² Please note, this notice and the schedule herein, supersedes the Notice of Intent to Prepare an EA issued by staff on August 5, 2021.

³ The Council on Environmental Quality's (CEQ) regulations under 40 CFR 1501.10(b)(1) require that EAs be completed within 1 year of the Federal action agency's decision to prepare an EA. See National Environmental Policy Act, 42 U.S.C. 4321 et seq., as amended by section 107(g)(1)(B)(iii) of the Fiscal Responsibility Act of 2023, Public Law 118-5, 4336a, 137 Stat. 42.

Milestone | Target date
Commission issues draft EA | April 2025.
Comments on draft EA | May 2025.
Commission issues final EA | November 2025.³

Any questions regarding this notice may be directed to Quinn Emmering, the Commission's coordinator assigned to the project relicense, at (202) 502-6382 or quinn.emmering@ferc.gov.

Dated: November 25, 2024.
Debbie-Anne A. Reese,
Secretary.

[FR Doc. 2024-28245 Filed 12-2-24; 8:45 am]

BILLING CODE 6717-01-P